DEPARTMENT OF DEFENSE

Department of the Army

Availability of Patents for Exclusive License

AGENCY: Army Soldier and Biological Chemical Command (SBCCOM), U.S. Army, DoD

ACTION: Notice; correction.

SUMMARY: Reference the previous Federal Register notice (65 FR 68128), Tuesday, November 14, 2000, the notice announces the availability of Patents for Exclusive, Partially Exclusive or Nonexclusive Licenses. However, the notice should have stated: SBCCOM gives notice that it is contemplating the grant of an exclusive license in the United States and any applicable foreign country to practice the invention embodied in Patent Number 5,538,583, “Method of Manufacturing a Laminated Textile Substrate for a Body Heating or Cooling Garment” and Patent Number 5,320,164, “Body Heating and Cooling Garment” to Columbus Apparel Associates, Inc., (CAA) having a place of business in Woburn, Massachusetts.

FOR FURTHER INFORMATION CONTACT: Mr. Robert Rosenkrans at U.S. Army Soldier and Biological Chemical Command, Kansas Street, Natick, MA 01760, Phone; (508) 233-4928 or E-mail: Robert.Rosenkrans@natick.army.mil.

SUPPLEMENTARY INFORMATION: Any licenses granted shall comply with 35 U.S.C. 209 AND 37 CFR part 404. The following Patent Numbers, Titles and Issue dates are provided:

Patent Number: 5,538,583

Title: Method of Manufacturing a Laminated Textile Substrate for a Body Heating or Cooling Garments

Issue Date: July 23, 1996

Patent Number: 5,320,164

Title: Body Heating or Cooling Garment

Issue Date: June 14, 1994

Gregory D. Showalter,
Army Federal Register Liaison Officer.

[FR Doc. 00-31326 Filed 12-07-00; 8:45 am]

BILLING CODE 3710-08-P